CORPORATION FOR NATIONAL AND COMMUNITY SERVICE

Information Collection; Submission for OMB Review, Comment Request

AGENCY: Corporation for National and Community Service.

ACTION: Notice.

SUMMARY: The Corporation for National and Community Service (hereinafter the “Corporation”), has submitted a public information collection request (ICR) entitled the AmeriCorps*VISTA Project Application and Instructions (OMB Control Number 3045-0038) to the Office of Management and Budget (OMB) for review and approval in accordance with the Paperwork Reduction Act of 1995, Public Law 104-13, (44 U.S.C. Chapter 35). Copies of this ICR, with applicable supporting documentation, may be obtained by calling the Corporation for National and Community Service, Mr. Paul Davis at (202) 606-6608. Individuals who use a telecommunications device for the deaf (TTY-TDD) may call (202) 565-2799 between 8:30 a.m. and 5 p.m. eastern time, Monday through Friday.

ADDRESSES: Comments may be submitted, identified by the title of the information collection activity, to the Office of Information and Regulatory Affairs, Attn: Ms. Katherine Astrich, OMB Desk Officer for the Corporation for National and Community Service, by any of the following two methods within 30 days from the date of publication in this Federal Register:

(1) By fax to: (202) 395-6974, Attention: Ms. Katherine Astrich, OMB Desk Officer for the Corporation for National and Community Service; and

(2) Electronically by e-mail to: Katherine_T._Astrich@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on October 9, 2007. This comment period ended December 8, 2007. No public comments were received from this notice.

Description: The AmeriCorps*VISTA Project Application and Instructions is used by the Corporation in the selection of VISTA sponsors and in the approval of both new and renewing VISTA projects. The information collection consists of a brief Concept Paper, and, if the Concept Paper is approved, a full application including budget.

The Corporation seeks to revise the previously used Project Application to: (a) Better align the information requested on the Concept Paper and the Application; and (b) simplify the project plan while continuing to provide a robust tool for evaluating project performance.

Type of Review: Renewal.

Agency: Corporation for National and Community Service.

Title: AmeriCorps*VISTA Project Application and Instructions.

OMB Number: 3045-0038.

Agency Number: None.

Affected Public: AmeriCorps*VISTA project applicants and sponsoring organizations seeking project renewal.

Total Respondents: 3,200, of which 1,000 will complete the full application.

Frequency: One time only for Concept Paper, once annually for Application.

Average Time per Response: 1.5 hours for Concept Paper; 8 hours for application.

Estimated Total Burden Hours: 12,800 hours.

Total Burden Cost (capital/startup): None.

Total Burden Cost (operating/maintenance): None.

Dated: December 20, 2007.
Jean Whaley,
Director, AmeriCorps*VISTA.

[FR Doc. E7-25094 Filed 12-26-07; 8:45 am]

BILLING CODE 6050-$$-P